DEPARTMENT OF STATE

[Public Notice: 12923]

Proposal To Extend the Cultural Property Agreement Between the United States and Bolivia

SUMMARY: Proposal to extend the Memorandum of Understanding Between the Government of the United States of America and the Government of the Plurinational State of Bolivia Concerning the Imposition of Import Restrictions on Categories of Archaeological Material from the Pre-Columbian Cultures and Certain Ethnological Material from the Colonial and Republican Periods of the Plurinational State of Bolivia (“the Bolivia Agreement”).

FOR FURTHER INFORMATION CONTACT: Idabelle Paterson, Cultural Heritage Center, Bureau of Educational and Cultural Affairs: (771) 204-6071; culprop@state.gov; include “Bolivia” in the subject.

SUPPLEMENTARY INFORMATION: Pursuant to the authority vested in the Under Secretary of State for Public Diplomacy, and pursuant to 19 U.S.C. 2602(f)(1), an extension of the Bolivia Agreement is hereby proposed. The Cultural Heritage Center website will provide instructions for public comment: https://www.state.gov/cultural-property-advisory-committee-meeting-march-3-5-2026/.

A copy of the Bolivia Agreement, the Designated List of categories of material currently restricted from import into the United States, and related information can be found at the Cultural Heritage Center website: https://www.state.gov/current-agreements-and-import-restrictions/.

Andrew L. Zonderman,
Designated Federal Officer, Cultural Property Advisory Committee, Bureau of Educational and Cultural Affairs, U.S. Department of State.

[FR Doc. 2026-01396 Filed 1-23-26; 8:45 am]

BILLING CODE 4710-05-P